DEPARTMENT OF THE INTERIOR

National Park Service

Notice of Inventory Completion: American Museum of Natural History, New York, NY

AGENCY: National Park Service, Interior.

ACTION: Notice.

Notice is here given in accordance with the Native American Graves Protection and Repatriation Act (NAGPRA), 25 U.S.C. 3003, of the completion of an inventory of human remains in the possession of the American Museum of Natural History, New York, NY. The human remains were collected from Umatilla County, OR, and Walla Walla County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the American Museum of Natural History professional staff in consultation with representatives of the Confederated Tribes of the Umatilla Reservation, Oregon.

In 1882, human remains representing a minimum of four individuals were collected from sand dunes in Umatilla, Umatilla County, OR. The human remains were purchased by the American Museum of Natural History from Mr. James Terry in 1891. No known individuals were identified. No associated funerary objects are present.

The individuals have been identified as Native American based on their likely association with a Native American village, the presence of cranial reshaping in some of the human remains, and the collector's practice of only collecting cultural items related to Native Americans from the United States. Physical anthropologists who examined the human remains estimate them to be less than 500 years old.

Consultation information provided by the tribe, archeological information, and expert opinion also indicate that the human remains are likely associated with the Umatilla site, a Late Prehistoric to Historic Umatilla village. Geographic location is consistent with the traditional and post-contact territory of the Confederated Tribes of the Umatilla Reservation, Oregon.

In 1882, human remains representing a minimum of four individuals were collected from Old Wallula, Walla Walla County, WA. The human remains were purchased by the American Museum of Natural History from Mr. Terry in 1891. No known individuals were identified. No associated funerary objects are present.

The individuals have been identified as Native American based on the presence of cranial reshaping in some of the human remains and the collector's practice of only collecting cultural items related to Native Americans from the United States. Physical anthropologists who examined the human remains estimate them to be less than 500 years old. Expert opinion also indicates that the human remains are likely to be of recent age. Geographic location is consistent with the traditional and post-contact territory of the Confederated Tribes of the Umatilla Reservation, Oregon.

Officials of the American Museum of Natural History have determined that, pursuant to 25 U.S.C. 3001 (9-10), the human remains described above represent the physical remains of eight individuals of Native American ancestry. Officials of the American Museum of Natural History also have determined that, pursuant to 25 U.S.C. 3001 (2), there is a relationship of shared group identity that can be reasonably traced between the Native American human remains and the Confederated Tribes of the Umatilla Reservation, Oregon.

Representatives of any other Indian tribe that believes itself to be culturally affiliated with the human remains should contact Nell Murphy, Director of Cultural Resources, American Museum of Natural History, Central Park West at 79th Street, New York, NY 10024-5192, telephone (212) 769-5837, before March 9, 2007. Repatriation of the human remains to the Confederated Tribes of the Umatilla Reservation, Oregon may proceed after that date if no additional claimants come forward.

The American Museum of Natural History is responsible for notifying the Confederated Tribes of the Umatilla Reservation, Oregon that this notice has been published.

Dated: January 19, 2007.
Sherry Hutt,
Manager, National NAGPRA Program.

[FR Doc. E7-1968 Filed 2-6-07; 8:45 am]

BILLING CODE 4312-50-S